FEDERAL RESERVE SYSTEM

Change in Bank Control Notices; Acquisitions of Shares of a Bank or Bank Holding Company

The notificants listed below have applied under the Change in Bank Control Act (12 U.S.C. 1817(j)) and § 225.41 of the Board's Regulation Y (12 CFR 225.41) to acquire shares of a bank or bank holding company. The factors that are considered in acting on the notices are set forth in paragraph 7 of the Act (12 U.S.C. 1817(j)(7)).

The notices are available for immediate inspection at the Federal Reserve Bank indicated. The notices also will be available for inspection at the offices of the Board of Governors. Interested persons may express their views in writing to the Reserve Bank indicated for that notice or to the offices of the Board of Governors. Comments must be received not later than April 16, 2012.

A. Federal Reserve Bank of Atlanta (Chapelle Davis, Assistant Vice President) 1000 Peachtree Street NE., Atlanta, Georgia 30309:

1. Ander P. and Sandra G. Gibbs, Dade City, Florida; to acquire convertible nonvoting preferred shares of Florida Bancshares, Inc., and thereby indirectly acquire control of First National Bank of Pasco, both in Dade City, Florida.

B. Federal Reserve Bank of Chicago (Colette A. Fried, Assistant Vice President) 230 South LaSalle Street, Chicago, Illinois 60690-1414:

1. Frank A. Peplinski, David Peplinski, Jerry Pelinksi, Terry Peplinski, Lynda Watchowski, Lauren Peplinski, Crystal Stomack, Nicole Peplinski, Brandon Watchowski, all of Ubly, Michigan, and certain of their minor children as a group acting in concert, to retain voting shares of Northstar Financial Group, Inc., and thereby indirectly retain control of Northstar Bank, both in Bad Axe, Michigan, and Seaway Community Bank, St. Clair, Michigan. In addition, Jerry Peplinski, as trustee of the Peplinski Family 2012 Trust, and The Peplinksi Family 2012 Trust will acquire shares of Northstar Financial Group, and thereby become a member of the Peplinski Family Group.

2. Lynette Drake, individually, Maria Roberts, Maria Roberts, as trustee of the Ryan J. Roberts Trust, the Ryan J. Roberts Trust, Jeffrey Roberts, and Austin Drake, all of Bad Axe, Michigan, and certain of their minor children as a group acting in concert, to retain voting shares of Northstar Financial Group, Inc., and thereby indirectly retain control of Northstar Bank, both in Bad Axe, Michigan, and Seaway Community Bank, St. Clair, Michigan. In addition, Lynette Drake, as trustee of the Roberts Family, 2012 Trust, and the Roberts Family 2012 Trust, will acquire shares of Northstar Financial Group, Inc., and thereby become a member of the Roberts Family Control Group.

Board of Governors of the Federal Reserve System, March 27, 2012.
Jennifer J. Johnson,
Secretary of the Board.

[FR Doc. 2012-7673 Filed 3-29-12; 8:45 am]

BILLING CODE 6210-01-P